DEPARTMENT OF HOMELAND SECURITY

Federal Emergency Management Agency

44 CFR Part 67

[Docket ID FEMA-2011-0002]

Final Flood Elevation Determinations

AGENCY: Federal Emergency Management Agency, DHS.

ACTION: Final rule.

SUMMARY: Base (1% annual-chance) Flood Elevations (BFEs) and modified BFEs are made final for the communities listed below. The BFEs and modified BFEs are the basis for the floodplain management measures that each community is required either to adopt or to show evidence of being already in effect in order to qualify or remain qualified for participation in the National Flood Insurance Program (NFIP).

DATES: The date of issuance of the Flood Insurance Rate Map (FIRM) showing BFEs and modified BFEs for each community. This date may be obtained by contacting the office where the maps are available for inspection as indicated in the table below.

ADDRESSES: The final BFEs for each community are available for inspection at the office of the Chief Executive Officer of each community. The respective addresses are listed in the table below.

FOR FURTHER INFORMATION CONTACT: Luis Rodriguez, Chief, Engineering Management Branch, Federal Insurance and Mitigation Administration, Federal Emergency Management Agency, 500 C Street SW., Washington, DC 20472, (202) 646-4064, or (email) Luis.Rodriguez3@fema.dhs.gov.

SUPPLEMENTARY INFORMATION: The Federal Emergency Management Agency (FEMA) makes the final determinations listed below for the modified BFEs for each community listed. These modified elevations have been published in newspapers of local circulation and ninety (90) days have elapsed since that publication. The Deputy Federal Insurance and Mitigation Administrator has resolved any appeals resulting from this notification.

This final rule is issued in accordance with section 110 of the Flood Disaster Protection Act of 1973, 42 U.S.C. 4104, and 44 CFR part 67. FEMA has developed criteria for floodplain management in floodprone areas in accordance with 44 CFR part 60.

Interested lessees and owners of real property are encouraged to review the proof Flood Insurance Study and FIRM available at the address cited below for each community. The BFEs and modified BFEs are made final in the communities listed below. Elevations at selected locations in each community are shown.

National Environmental Policy Act. This final rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Regulatory Classification. This final rule is not a significant regulatory action under the criteria of section 3(f) of Executive Order 12866 of September 30, 1993, Regulatory Planning and Review, 58 FR 51735.

Executive Order 13132, Federalism. This final rule involves no policies that have federalism implications under Executive Order 13132.

Executive Order 12988, Civil Justice Reform. This final rule meets the applicable standards of Executive Order 12988.

List of Subjects in 44 CFR Part 67

Administrative practice and procedure, Flood insurance, Reporting and recordkeeping requirements.

Accordingly, 44 CFR part 67 is amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.11 [Amended]

2. The tables published under the authority of § 67.11 are amended as follows:

Flooding source(s) | Location of referenced elevation | * Elevation in feet (NGVD) + Elevation in feet (NAVD) # Depth in feet above ground ‸ Elevation in meters (MSL) modified | Communities affected
Santa Cruz County, Arizona, and Incorporated Areas | Docket Nos.: FEMA-B-1022 and FEMA-B-1117
Agua Fria Canyon | Approximately 340 feet upstream from the confluence with Santa Cruz River | +3384 | Unincorporated Areas of Santa Cruz County.
| Approximately 21,000 feet upstream from the confluence with Teruno Canyon | +3700
Al Harrison Wash | Approximately 290 feet upstream from the confluence with Potrero Creek | +3652 | City of Nogales.
| Approximately 125 feet downstream of I-19 | +3684
Ephraim Canyon Wash | At the confluence with Nogales Wash | +3810 | City of Nogales.
| Approximately 130 feet upstream from State Route189 | +4002
Falls Wash | Approximately 150 feet upstream from East Morley Avenue | +3806 | City of Nogales.
| Approximately 225 feet upstream from State Route 82 | +3816
Farosa Canyon | Approximately 500 feet downstream from Sycamore Lane | +4846 | Unincorporated Areas of Santa Cruz County.
| Approximately 110 feet upstream from Sycamore Lane | +4854
Harshaw Creek | Approximately 220 feet upstream from the confluence with Sonoita Creek | +4076 | Town of Patagonia.
| Approximately 125 feet upstream from Harshaw Avenue | +4116
Josephine Canyon | Approximately 270 feet upstream from the confluence with the Santa Cruz River | +3284 | Unincorporated Areas of Santa Cruz County.
| Approximately 9,465 feet upstream from the confluence with Josephine Canyon Tributary 5 | +3648
Lyle Canyon | Approximately 3,000 feet north along river from Hilltop Lane | +4798 | Unincorporated Areas of Santa Cruz County.
| Approximately 1,400 feet west along river from Point Pleasant Lane | +4868
Mariposa Canyon | At the confluence with Nogales Wash | +3746 | City of Nogales, Unincorporated Areas of Santa Cruz County.
| Approximately 1.3 miles upstream of State Route 189 | +3965
Nogales Wash | At the confluence with Potrero Creek | +3604 | City of Nogales Unincorporated Areas of Santa Cruz County.
| At International Border | +3874
Peck Canyon | Approximately 650 feet upstream from the confluence with the Santa Cruz River | +3344 | Unincorporated Areas of Santa Cruz County.
| Approximately 1,675 feet upstream from the confluence with Ramanote Canyon | +3598
Potrero Creek | Approximately 100 feet upstream from the confluence with the Santa Cruz River | +3466 | City of Nogales Unincorporated Areas of Santa Cruz County.
| Approximately 9,850 feet upstream from West Meadow Hills Drive | +3806
Puerto Canyon Wash | Approximately 350 feet downstream from Esplendito (road) | +3166 | Unincorporated Areas of Santa Cruz County.
| Approximately 1,575 feet upstream from Puerto Canyon Road | +3298
Redrock Canyon | Approximately 75 feet from the confluence with Harshaw Creek | +4094 | Town of Patagonia.
| Approximately 110 feet upstream from Redrock Drive | +4114
Santa Cruz River | Approximately 2,000 feet upstream from the confluence with Sopori Wash | +3040 | Unincorporated Areas of Santa Cruz County.
| Approximately 8,000 feet upstream from the confluence with Maria Santisima del Carmen Wash | +3732
Sonoita Creek | At the confluence with the Santa Cruz River | +3430 | Unincorporated Areas of Santa Cruz County.
| Approximately 4,440 feet downstream from De La Sonoita (road) | +3558
Sonoita Creek | Approximately 1,100 feet upstream from Blue Haven Road | +4028 | Town of Patagonia.
| Approximately 1,460 feet upstream from Cross Creed Road | +4130
Sonoita Tributary A | Approximately 50 feet upstream from North Second Avenue | +4066 | Town of Patagonia.
| Approximately 380 feet upstream from East Pennsylvania Avenue | +4080
* National Geodetic Vertical Datum. + North American Vertical Datum. # Depth in feet above ground. ‸ Mean Sea Level, rounded to the nearest 0.1 meter.
ADDRESSES
City of Nogales
Maps are available for inspection at 2150 North Congress Drive, Suite 117, Nogales, AZ 85621.
Town of Patagonia
Maps are available for inspection at 310 McKeown Avenue, Patagonia, AZ 85624.
Unincorporated Areas of Santa Cruz County
Maps are available for inspection at 2150 North Congress Drive, Suite 117, Nogales, AZ 85621.
Gallatin County, Illinois, and Incorporated Areas | Docket No.: FEMA-B-1134
Ohio River | Approximately 1,666 feet downstream of Garfield Street (IL-13) | +367 | Unincorporated Areas of Gallatin County, Village of Old Shawneetown.
| Approximately 1.19 miles upstream of Garfield Street (IL-13), approximately at River Mile 857 | +367
* National Geodetic Vertical Datum. + North American Vertical Datum. # Depth in feet above ground. ‸ Mean Sea Level, rounded to the nearest 0.1 meter.
ADDRESSES
Unincorporated Areas of Gallatin County
Maps are available for inspection at the Gallatin County Courthouse, 484 North Lincoln Boulevard West, Shawneetown, IL 62984.
Village of Old Shawneetown
Maps are available for inspection at the Old Shawneetown Village Hall, 332 Washington Street, Shawneetown, IL 62984.
Clinton County, Indiana, and Incorporated Areas | Docket No.: FEMA-B-1138
Prairie Creek | Approximately 100 feet downstream of County Road 100 North | +822 | City of Frankfort, Unincorporated Areas of Clinton County.
| Approximately 450 feet upstream of Kelly Street | +853
* National Geodetic Vertical Datum. + North American Vertical Datum. # Depth in feet above ground. ‸ Mean Sea Level, rounded to the nearest 0.1 meter.
ADDRESSES
City of Frankfort
Maps are available for inspection at City Hall, 301 East Clinton Street, Frankfort, IN 46041.
Unincorporated Areas of Clinton County
Maps are available for inspection at the Clinton County Courthouse, 180 Courthouse Square, Frankfort, IN 46041.
Iberia Parish, Louisiana, and Incorporated Areas | Docket Nos.: FEMA-B-7771 and FEMA-B-7787
Bayou Petite Anse-Deblanc Coulee-Segura Branch | Approximately 300 feet upstream of U.S. Route 90 eastbound | +10 | Unincorporated Areas of Iberia Parish.
| Approximately 300 feet downstream of Southern Pacific Railroad | +12
Commercial Canal | Approximately 300 feet downstream of Southern Pacific Railroad | +10 | City of New Iberia, Unincorporated Areas of Iberia Parish.
| Approximately 450 feet upstream of Admiral Doyle Drive | +11
Duboin Canal | Approximately 3,000 feet downstream of Admiral Doyle Drive | +11 | City of New Iberia, Unincorporated Areas of Iberia Parish.
| At the intersection with Adrian Street | +16
Gulf of Mexico | Base Flood Elevation changes ranging from 9 to 11 feet in the form of Coastal AE zones have been made | +9-11 | Town of Delcambre
Gulf of Mexico | Base Flood Elevation changes ranging from 9 to 15 feet in the form of AE and VE zones have been made | +9-15 | Unincorporated Areas of Iberia Parish
Jacks Coulee | Approximately 300 feet downstream of Weeks Island Road | +10 | Unincorporated Areas of Iberia Parish.
| Approximately 300 feet upstream of U.S. Route 90 | +11
Jefferson Canal | Approximately 300 feet downstream of Southern Pacific Railroad | +3 | Unincorporated Areas of Iberia Parish.
| Approximately 100 feet upstream of Jefferson Island Road | +6
Little Valley Bayou | Approximately 300 feet downstream of Patoutville Road | +9 | Unincorporated Areas of Iberia Parish.
| Approximately 600 feet upstream of Smith Road | +11
Peebles Coulee | Approximately 3,250 feet upstream of J. Allen Daigre Drive | +12 | City of New Iberia, Unincorporated Areas of Iberia Parish.
| Approximately 300 feet downstream of Weeks Island Road | +12
Poufette Canal—Bayou Petite Anse-Segura Branch | Approximately 100 feet upstream of Norris Road | +10 | Unincorporated Areas of Iberia Parish.
| Approximately 300 feet downstream of Southern Pacific Railroad | +13
Rodere Canal | Approximately 300 feet downstream of Southern Pacific Railroad | +12 | City of New Iberia, Unincorporated Areas of Iberia Parish.
| Approximately 2,900 feet upstream of Center Street | +14
Tete Bayou | Approximately 500 feet downstream of Louisiana Highway 3195 | +13 | City of New Iberia, Unincorporated Areas of Iberia Parish.
| Approximately 250 feet downstream of North Lewis Street | +15
* National Geodetic Vertical Datum. + North American Vertical Datum. # Depth in feet above ground. ‸ Mean Sea Level, rounded to the nearest 0.1 meter.
ADDRESSES
City of New Iberia
Maps are available for inspection at 457 East Main Street, New Iberia, LA 70560.
Town of Delcambre
Maps are available for inspection at 107 North Railroad Street, Delcambre, LA 70528.
Unincorporated Areas of Iberia Parish
Maps are available for inspection at 209 West Main Street, Suite 102, New Iberia, LA 70560.
Dakota County, Minnesota, and Incorporated Areas | Docket Nos.: FEMA-B-1014 and FEMA-B-1130
Alimagnet Lake | Entire shoreline within Dakota County | +959 | City of Apple Valley.
Cannon River | At the downstream Goodhue County boundary | +800 | City of Northfield, City of Randolph, Unincorporated Areas of Dakota County.
| At the upstream Rice County boundary | +897
Chub Creek | Approximately 1,200 feet upstream of the confluence with Cannon Creek | +864 | City of Randolph, Unincorporated Areas of Dakota County.
| Approximately 500 feet upstream of Hamburg Avenue | +969
Chub Lake | Entire shoreline | +969 | Unincorporated Areas of Dakota County.
Dutch Creek | At the confluence with Chub Creek | +957 | Unincorporated Areas of Dakota County.
| Approximately 7,000 feet upstream of 305th Street West | +981
Hazelwood Creek | At the confluence with Dutch Creek | +965 | Unincorporated Areas of Dakota County.
| Approximately 4,875 feet upstream of 280th Street West | +1103
Keller Lake | Entire shoreline within Dakota County | +936 | City of Apple Valley.
Minnesota River | Approximately 2,300 feet upstream of the confluence with the Mississippi River | +714 | City of Burnsville, City of Eagan, City of Mendota Heights.
| At the upstream Scott County boundary | +717
Mississippi River | Approximately 16,300 feet downstream of the downstream Goodhue County boundary | +688 | City of Hastings, City of Inver Grove Heights, City of Lilydale, City of Mendota, City of Mendota Heights, City of Rosemount, City of South St. Paul, Unincorporated Areas of Dakota County.
| Approximately 10,200 feet upstream of I-35 | +714
Mud Creek | At the confluence with Chub Creek | +920 | Unincorporated Areas of Dakota County.
| Approximately 1,670 feet upstream of 320th Street West | +1005
North Branch Chub Creek | At the confluence with Chub Creek | +896 | Unincorporated Areas of Dakota County.
| Approximately 4,150 feet upstream of the intersection of Denmark Avenue and 255th Street West | +983
North Branch Vermillion River | Approximately 900 feet upstream of the confluence with the Vermillion River | +850 | Unincorporated Areas of Dakota County.
| Approximately 3,150 feet upstream of Station Trail | +942
Pine Creek | At the Goodhue County boundary | +862 | Unincorporated Areas of Dakota County.
| Approximately 6,200 feet upstream of Emery Avenue | +915
South Branch Vermillion River | Approximately 50 feet downstream of 200th Street East | +848 | Unincorporated Areas of Dakota County.
| Approximately 4,970 feet upstream of Denmark Avenue | +961
Tributary No. 1 to Chub Creek | At the confluence with Chub Creek | +900 | Unincorporated Areas of Dakota County.
| Approximately 2,570 feet upstream of Denmark Avenue | +943
Tributary No. 1 to North Branch Chub Creek | At the confluence with North Branch Chub Creek | +897 | Unincorporated Areas of Dakota County.
| At the divergence from Tributary No. 1 to Chub Creek | +921
Tributary No. 1 to North Branch Vermillion River | At the confluence with the North Branch Vermillion River | +860 | Unincorporated Areas of Dakota County.
| Approximately 3,300 feet upstream of the confluence with the North Branch Vermillion River | +885
Tributary No. 1 to South Branch Vermillion River | At the confluence with the South Branch Vermillion River | +865 | Unincorporated Areas of Dakota County.
| Approximately 3,800 feet upstream of Darkhorse Lane | +949
Tributary No. 1 to Vermillion River | At the confluence with the Vermillion River | +793 | City of Hastings, Unincorporated Areas of Dakota County.
| Approximately 3,525 feet upstream of 225th Street East | +985
Tributary No. 1A to Vermillion River | At the confluence with Tributary No. 1 to Vermillion River | +805 | Unincorporated Areas of Dakota County.
| Approximately 2,300 feet upstream of Kendel Avenue | +816
Tributary No. 1B to Vermillion River | At the confluence with Tributary No. 1 to Vermillion River | +806 | Unincorporated Areas of Dakota County.
| Approximately 2,760 feet upstream of Knox Path | +812
Tributary No. 1C to Vermillion River | At the confluence with Tributary No. 1 to Vermillion River | +845 | Unincorporated Areas of Dakota County.
| Approximately 2,680 feet upstream of Inga Avenue | +869
Tributary No. 2 to Chub Creek | At the confluence with Chub Creek | +929 | Unincorporated Areas of Dakota County.
| Approximately 1,250 feet upstream of 280th Street West | +944
Tributary No. 2 to North Branch Vermillion River | At the confluence with the North Branch Vermillion River | +870 | Unincorporated Areas of Dakota County.
| Approximately 1,750 feet upstream of Blaine Avenue | +918
Tributary No. 2 to South Branch Vermillion River | At the confluence with the South Branch Vermillion River | +873 | Unincorporated Areas of Dakota County.
| Approximately 1,240 feet upstream of Blaine Avenue | +877
Tributary No. 2 to Trout Brook | At the confluence with Trout Brook | +869 | Unincorporated Areas of Dakota County.
| Approximately 4,800 feet upstream of 260th Street East | +968
Tributary No. 2 to Vermillion River | At the confluence with the Vermillion River | +825 | Unincorporated Areas of Dakota County.
| Approximately 1,420 feet upstream of Goodwin Avenue | +883
Tributary No. 2A to North Branch Vermillion River | At the confluence with Tributary No. 2 to North Branch Vermillion River | +894 | Unincorporated Areas of Dakota County.
| Approximately 3,220 feet upstream of the confluence with Tributary No. 2 to North Branch Vermillion River | +923
Tributary No. 3 to North Branch Vermillion River | At the confluence with the North Branch Vermillion River | +884 | Unincorporated Areas of Dakota County.
| Approximately 2,870 feet upstream of the confluence with the North Branch Vermillion River | +943
Tributary No. 3 to South Branch Vermillion River | At the confluence with the South Branch Vermillion River | +882 | City of Hampton, Unincorporated Areas of Dakota County.
| Approximately 300 feet upstream of Northfield Boulevard | +926
Tributary No. 3 to Trout Brook | At the confluence with Trout Brook | +883 | Unincorporated Areas of Dakota County.
| Approximately 2,740 feet upstream of 240th Street East | +1025
Tributary No. 3 to Vermillion River | At the confluence with the Vermillion River | +828 | Unincorporated Areas of Dakota County.
| Approximately 9,720 feet upstream of 180th Street East | +894
Tributary No. 4 to North Branch Vermillion River | At the convergence with the North Branch Vermillion River | +921 | Unincorporated Areas of Dakota County.
| At the divergence from the North Branch Vermillion River | +930
Tributary No. 4 to South Branch Vermillion River | At the confluence with the South Branch Vermillion River | +888 | Unincorporated Areas of Dakota County.
| Approximately 9,220 feet upstream of the confluence with the South Branch Vermillion River | +904
Tributary No. 4 to Trout Brook | At the confluence with Trout Brook | +909 | Unincorporated Areas of Dakota County.
| Approximately 1,900 feet upstream of 240th Street East | +936
Tributary No. 4 to Vermillion River | At the confluence with the Vermillion River | +838 | Unincorporated Areas of Dakota County.
| Approximately 550 feet upstream of 210th Street East | +910
Tributary No. 4A to Vermillion River | At the confluence with Tributary No. 4 to Vermillion River | +854 | Unincorporated Areas of Dakota County.
| Approximately 5,100 feet upstream of the confluence with Tributary No. 4 to Vermillion River | +908
Tributary No. 5 to South Branch Vermillion River | At the confluence with the South Branch Vermillion River | +899 | Unincorporated Areas of Dakota County.
| Approximately 3,950 feet upstream of the confluence with the South Branch Vermillion River | +913
Tributary No. 5 to Trout Brook | At the confluence with Trout Brook | +942 | Unincorporated Areas of Dakota County.
| Approximately 2,700 feet upstream of 250th Street East | +988
Tributary No. 5 to Vermillion River | At the confluence with the Vermillion River | +863 | Unincorporated Areas of Dakota County.
| Approximately 1,500 feet upstream of 170th Street West | +934
Tributary No. 5A to Vermillion River | At the confluence with Tributary No. 5 to Vermillion River | +883 | Unincorporated Areas of Dakota County.
| Approximately 4,560 feet upstream of the confluence with Tributary No. 5 to Vermillion River | +923
Tributary No. 5B to Vermillion River | At the confluence with Tributary No. 5 to Vermillion River | +899 | Unincorporated Areas of Dakota County.
| Approximately 2,600 feet upstream of Biscayne Avenue | +940
Tributary No. 5C to Vermillion River | At the confluence with Tributary No. 5 to Vermillion River | +899 | Unincorporated Areas of Dakota County.
| Approximately 3,500 feet upstream of 170th Street West | +951
Tributary No. 6 to Vermillion River | At the confluence with the Vermillion River | +870 | Unincorporated Areas of Dakota County.
| Approximately 8,700 feet upstream of 210th Street West | +890
Tributary No. 6A to Vermillion River | At the confluence with Tributary No. 6 to Vermillion River | +877 | City of Farmington, Unincorporated Areas of Dakota County.
| Approximately 4,700 feet upstream of 210th Street West | +892
Tributary No. 6B to Vermillion River | At the confluence with Tributary No. 6 to Vermillion River | +879 | Unincorporated Areas of Dakota County.
| Approximately 6,170 feet upstream of the confluence with Tributary No. 6 to Vermillion River | +887
Trout Brook | Approximately 9,450 feet downstream of 260th Street East | +851 | Unincorporated Areas of Dakota County.
| Approximately 3,600 feet upstream of 240th Street East | +982
Vermillion River | Approximately 620 feet downstream of Vermillion Street (U.S. Route 61) | +781 | City of Farmington, City of Hastings, City of Vermillion, Unincorporated Areas of Dakota County.
| At the Scott County boundary | +1010
* National Geodetic Vertical Datum. + North American Vertical Datum. # Depth in feet above ground. ‸ Mean Sea Level, rounded to the nearest 0.1 meter.
ADDRESSES
City of Apple Valley
Maps are available for inspection at 7100 West 147th Street, Apple Valley, MN 55124.
City of Burnsville
Maps are available for inspection at City Hall, 100 Civic Center Parkway, Burnsville, MN 55337.
City of Eagan
Maps are available for inspection at City Hall, 3830 Pilot Knob Road, Eagan, MN 55122.
City of Farmington
Maps are available for inspection at City Hall, 430 3rd Street, Farmington, MN 55024.
City of Hampton
Maps are available for inspection at City Hall, 5320 Lincoln Street, Hampton, MN 55031.
City of Hastings
Maps are available for inspection at City Hall, 101 4th Street East, Hastings, MN 55033.
City of Inver Grove Heights
Maps are available for inspection at City Hall, 8150 Barbara Avenue, Inver Grove Heights, MN 55077.
City of Lilydale
Maps are available for inspection at City Hall, 1011 Sibley Memorial Highway, Lilydale, MN 55118.
City of Mendota
Maps are available for inspection at City Hall, 1313 Sibley Memorial Highway, Mendota, MN 55150.
City of Mendota Heights
Maps are available for inspection at City Hall, 1011 Victoria Curve, Mendota Heights, MN 55118.
City of Northfield
Maps are available for inspection at City Hall, 801 Washington Street, Northfield, MN 55057.
City of Randolph
Maps are available for inspection at City Hall, 4365 292nd Street East, Randolph, MN 55065.
City of Rosemount
Maps are available for inspection at City Hall, 2875 145th Street West, Rosemount, MN 55068.
City of South St. Paul
Maps are available for inspection at City Hall, 125 3rd Avenue North, South St. Paul, MN 55075.
City of Vermillion
Maps are available for inspection at City Hall, 105 Main Street East, Vermillion, MN 55085.
Unincorporated Areas of Dakota County
Maps are available for inspection at the Dakota County Administration Center, 1590 Highway 55, Hastings, MN 55033.
Steele County, Minnesota, and Incorporated Areas | Docket No.: FEMA-B-1138
Crane Creek | Approximately 400 feet upstream of the confluence with the Straight River | +1092 | Unincorporated Areas of Steele County.
| At Frontage Road | +1092
* National Geodetic Vertical Datum. + North American Vertical Datum. # Depth in feet above ground. ‸ Mean Sea Level, rounded to the nearest 0.1 meter.
ADDRESSES
Unincorporated Areas of Steele County
Maps are available for inspection at the Steele County Administration Center, 630 Florence Avenue, Owatonna, MN 55060.
Clarion County, Pennsylvania (All Jurisdictions) | Docket No.: FEMA-B-1138
Allegheny River | Approximately 1.16 miles upstream of the confluence with Redbank Creek | +837 | Township of Brady.
| Approximately 2.12 miles upstream of the confluence with Redbank Creek | +838
Allegheny River | Approximately 1.38 miles downstream of the confluence with Black Fox Run | +853 | Township of Perry, Township of Toby.
| Approximately 480 feet upstream of State Route 368 | +868
Allegheny River | Approximately 1,660 feet downstream of State Route 58 | +873 | Township of Richland.
| Approximately 1,245 feet downstream of State Route 58 | +873
| Approximately 860 feet downstream of I-80 | +880
| Approximately 920 feet upstream of I-80 | +880
* National Geodetic Vertical Datum. + North American Vertical Datum. # Depth in feet above ground. ‸ Mean Sea Level, rounded to the nearest 0.1 meter.
ADDRESSES
Township of Brady
Maps are available for inspection at the Brady Township Building, 141 West Liberty Road, Slippery Rock, PA 16057.
Township of Perry
Maps are available for inspection at the Perry Township Building, 5687 Doc Walker Road, Parker, PA 16049.
Township of Richland
Maps are available for inspection at the Richland Township Building, 511 Dittman Road, Emlenton, PA 16373.
Township of Toby
Maps are available for inspection at the Toby Township Building, 37 Simmons Road, Rimersburg, PA 16248.
Dunn County, Wisconsin, and Incorporated Areas | Docket No.: FEMA-B-1130
Beaver Creek | Approximately 0.35 mile downstream of Main Street | +976 | Unincorporated Areas of Dunn County, Village of Downing.
| At the St. Croix County boundary | +992
Chippewa River | Approximately 0.3 mile downstream of the Chippewa River State Trail | +730 | Unincorporated Areas of Dunn County.
| Approximately 0.16 mile downstream of the Eau Claire County boundary | +760
Cranberry Creek | Just upstream of 650th Street | +737 | Unincorporated Areas of Dunn County.
| Just upstream of 90th Avenue | +799
Eighteen Mile Creek | Just downstream of State Highway 40 | +919 | Unincorporated Areas of Dunn County, Village of Colfax.
| At the Chippewa County boundary | +974
Elk Creek | Just upstream of 410th Avenue | +819 | Unincorporated Areas of Dunn County.
| Approximately 0.2 mile downstream of County Highway EE | +843
Gilbert Creek | Just downstream of County Highway PN | +788 | City of Menomonie, Unincorporated Areas of Dunn County.
| Just upstream of 550th Avenue | +821
Hay River | Approximately 0.3 mile upstream of County Highway D | +881 | Unincorporated Areas of Dunn County, Village of Wheeler.
| Approximately 0.5 mile downstream of the Barron County boundary | +1008
Red Cedar River | Just downstream of County Highway Y | +730 | City of Menomonie, Unincorporated Areas of Dunn County, Village of Colfax.
| Approximately 1.4 miles upstream of County Highway V | +996
South Fork Hay River | Approximately 0.2 mile downstream of County Highway F | +917 | Unincorporated Areas of Dunn County.
| Approximately 1.5 miles upstream of State Highway 64 | +993
South Fork Lower Pine Creek | At the Barron County boundary | +1078 | Unincorporated Areas of Dunn County, Village of Ridgeland.
| Approximately 0.8 mile upstream of County Highway V | +1097
Tiffany Creek | Approximately 1.8 miles downstream of East Street | +937 | Unincorporated Areas of Dunn County, Village of Boyceville, Village of Downing.
| At the St. Croix County boundary | +982
Wilson Creek | Just upstream of Stokke Trail | +814 | City of Menomonie, Unincorporated Areas of Dunn County, Village of Knapp.
| At the St. Croix County boundary | +981
* National Geodetic Vertical Datum. + North American Vertical Datum. # Depth in feet above ground. ‸ Mean Sea Level, rounded to the nearest 0.1 meter.
ADDRESSES
City of Menomonie
Maps are available for inspection at City Hall, 800 Wilson Avenue, Menomonie, WI 53751.
Unincorporated Areas of Dunn County
Maps are available for inspection at the Dunn County Government Center, 800 Wilson Avenue, Menomonie, WI 54751.
Village of Boyceville
Maps are available for inspection at the Village Hall, 903 Main Street, Boyceville, WI 54725.
Village of Colfax
Maps are available for inspection at the Village Hall, 613 Main Street, Colfax, WI 54730.
Village of Downing
Maps are available for inspection at the Village Hall, 306 Main Street, Downing, WI 54734.
Village of Knapp
Maps are available for inspection at the Village Hall, 111 Oak Street, Knapp, WI 54749.
Village of Ridgeland
Maps are available for inspection at 103 South Elliot Street, Ridgeland, WI 54763.
Village of Wheeler
Maps are available for inspection at the Village Hall, 105 West Tower Road, Wheeler, WI 54772.

Catalog of Federal Domestic Assistance No. 97.022, “Flood Insurance.”

Dated: November 14, 2011.
Sandra K. Knight,
Deputy Associate Administrator for Mitigation, Department of Homeland Security, Federal Emergency Management Agency.

[FR Doc. 2011-30306 Filed 11-23-11; 8:45 am]

BILLING CODE 9110-12-P